DEPARTMENT OF TRANSPORTATION

Federal Transit Administration

Demonstration of Enhanced Human Service Transportation Models: Phase 1—System Development and Design

AGENCY: Federal Transit Administration, DOT.

ACTION: Notice; request for proposals.

SUMMARY: This notice is a request for proposals (RFP) for system development and design of enhanced human service transportation models. The USDOT seeks up to 10 local communities to carry out detailed development and design of coordinated human service transportation systems that utilize Intelligent Transportation Systems capabilities. The expected results from Phase 1 include up to 10 “deployment-ready,” replicable and scalable system detailed designs for enhanced human service transportation delivery models in communities representing a variety of operational environments and scenarios.

DATES: Proposals will be accepted immediately, as of the issue date of this RFP. All proposals must be submitted electronically to Grants.Gov by June 13, 2006, or postmarked by June 13, 2006, for consideration. All potential applicants are advised to begin the Grants.Gov registration process immediately, if they have not previously submitted grant applications through http://www.Grants.Gov in order to be able to meet the deadline.

ADDRESSES: Proposals should be submitted electronically to http://www.Grants.Gov. Grants.Gov allows organizations to electronically find and apply for competitive opportunities from all Federal grant-making agencies. Grants.Gov is the single access point for over 1,000 programs offered by the 26 Federal grant-making agencies.

Proposals can also be submitted in hard copy. Should the applicant elect this option, five hard copies and one unbound reproducible hard copy of the proposal, along with an electronic copy of the proposal contained on a CD-ROM should be submitted to Ms. Aletha Goodine, Office of Mobility Innovation, Room 9402, TRI-10, Federal Transit Administration, USDOT, 400 Seventh Street, SW., Washington, DC 20590. All proposals should reference “Enhanced Human Service Transportation System Development and Design.”

FOR FURTHER INFORMATION CONTACT: For program management and cooperative agreement administrative questions: Aletha Goodine at PH: 202-366-4148; FAX: 202-366-3765; Office of Mobility Innovation, Room 9402, TRI-10, Federal Transit Administration, USDOT, 400 Seventh Street, SW., Washington, DC 20590, or aletha.goodine@fta.dot.gov.

For technical questions: Yehuda Gross at PH: 202-366-1988; FAX: 202-493-2027; ITS Joint Program Office, Room 3416, HOIT-1, Federal Highway Administration, USDOT, 400 Seventh Street, SW., Washington, D.C. 20590, or Yehuda.gross@fhwa.dot.gov.

SUPPLEMENTARY INFORMATION:

Background

There are 62 Federal programs that fund transportation services for the transportation disadvantaged. The February 2004 Presidential Executive Order on Human Service Transportation Coordination (Executive Order 13330) requested the establishment of the Federal Interagency Transportation Coordinating Council on Access and Mobility (CCAM) to enhance accessibility and mobility for persons who are transportation disadvantaged, especially individuals with low-incomes, people with disabilities, and older Americans. This Council is chaired by the Secretary of Transportation with representation from 11 executive departments or agencies of the Federal Government.

Currently, due to inefficiencies, limited resources, and a lack of coordination, delivery of human services transportation is challenging. New capabilities and opportunities are being created in both the transportation and health and human services communities through the use of emerging technologies and innovative services. However, the two communities are often unaware of the research, new approaches, and advances that each is making, and neither may have direct communication with the transportation disadvantaged community at large.

In response to the Presidential Executive Order to improve the effectiveness and efficiency of current human service transportation delivery, the United States Department of Transportation (USDOT) is leading two concurrent initiatives to bring the transportation and human service communities together to apply solutions to overcome service coordination and accessibility barriers for the transportation disadvantaged travelers, transportation service providers and human service program administrators.

The first of the two initiatives is United We Ride (UWR), an initiative of the CCAM, chaired by the Department of Transportation Secretary Norman Y. Mineta. This initiative has effectively engaged all 11 Federal departmental partners related to human service transportation delivery. It addresses policy implications and solutions of coordinated human service transportation systems from both technical and non-technical perspectives. Developed by an “expert panel” in 2003 as a key product of the UWR initiative, the Framework for Action is a comprehensive evaluation and planning tool designed to help state and community leaders and agencies involved in human service transportation and transit services, along with their stakeholders, assess and plan for coordinated transportation systems. It focuses on a series of core coordination elements (such as working together, needs assessment, putting customers first, funding adaptations, technology, and moving people efficiently) to help groups in states and communities assess their needs and plan their coordination efforts. The Framework for Action is actually two tools: one for communities and another for states. It is available at http://www.unitedweride.gov.

The second initiative is the Mobility Services for All Americans (MSAA) initiative. This initiative is funded through the USDOT Intelligent Transportation Systems (ITS) Joint Program Office. ITS encompass a broad range of communications-based information and electronics technologies for surface transportation applications. When integrated into the transportation system's infrastructure, and in vehicles themselves, these technologies relieve congestion, improve safety and enhance productivity. The MSAA initiative focuses on applying ITS solutions to advance human service transportation delivery. It aims to provide technology improvements that address both the concerns of users, including the transportation disadvantaged, and the concerns of service providers, including program administration.

In the CCAM report to the President on Human Service Transportation Coordination, the Council recommended developing demonstration projects in metropolitan, rural and/or tribal areas to test the technical and institutional feasibility of an enhanced human service transportation system. The demonstration projects have three major objectives. These are (1) to establish a comprehensive set of transportation services to meet the full range of transportation needs for all, including low-income individuals, older adults, and persons with disabilities in a target area by coordinating the resources of various human service and transit programs; (2) to create a simple point of access for consumers to obtain the transportation services needed from various programs, and (3) to use intelligent transportation systems to enhance transportation service delivery and system accessibility. In these demonstration projects, a single transportation system (not necessarily a single provider) will be established to meet the mobility needs of all Americans in general and transportation-disadvantaged populations in particular. The demonstration will take a two-phase approach: model development and design (Phase 1) and model deployment and evaluation (Phase 2).

I. Funding Opportunity Description

This notice is a request for proposals (RFP) for Phase 1—model development and design of the demonstration program. The USDOT is soliciting proposals to select up to 10 local communities to carry out detailed development and design of coordinated human service transportation systems that utilize Intelligent Transportation Systems (ITS) capabilities. The geographic scope of a “local community” is to be determined by each applicant, such as a single municipality (or jurisdictional entity), a metropolitan area (or a portion of), statewide or even interstates, as deemed appropriate and necessary. Participation from various human service transportation funding agencies, service providers, private entities, faith-based and non-profit organizations and consumers is strongly encouraged. The expected result from Phase 1 will be up to 10 “deployment-ready,” replicable and scalable system detailed designs for models of travel management coordination centers (TMCC) that deliver enhanced human service transportation across a variety of operational environments (e.g., urban, suburban, rural and remote) and scenarios.

The vision of a TMCC is a system that:

• From a customer perspective, provides a convenient access point (physical and/or virtual) for comprehensive traveler support. The types of services provided may range from general customer support and trip planning (including accessibility, scheduling and fare information), to automated reservation management, and real-time traveler information. The services should be conveniently accessible to all users, regardless of eligible programs, funding sources and travel modes.

• From a service provider perspective, supports coordinated transportation service operations and management, including customer management, real-time fleet monitoring, automated scheduling, dispatching and routing, vehicle matching, automated reporting and invoicing. The overall interagency coordination mechanism should be transparent to the users.

• From a human service program management perspective, enables streamlined program management requirements, including consumer management, automated accounting, financial transaction back-office coordination, reporting and data collection for program evaluation.

The major objectives of the Phase 1—TMCC system development and design are to:

• Develop “deployment-ready” designs of ITS-enhanced human service transportation models in up to 10 local communities that meet local requirements, yet are scalable and replicable for broader applications. The term “deployment-ready” refers to a completed, detailed TMCC system design that has been verified and validated by the USDOT designated experts and is ready for implementation subject to funding availability.

• Identify gaps in national and regional ITS architectures and related ITS standards to address human service transportation system requirements.

• Identify technical, regulatory and institutional related hurdles at the local level and identify solutions to overcome them.

• Explore effective and creative approaches to engage local stakeholders for continuous and active support and participation in defining requirements and potential solutions.

II. Award Information

The TMCC system development and design cooperative agreements will fund up to 10 local communities at once and totaling no more than $3.25 million. It is anticipated that successful applicants will be notified within 45 days from the closing date of this RFP. This TMCC system development and design project will last a maximum of 15 months, beginning at the project kick-off, to complete all the tasks and deliver a detailed TMCC system design that is ready for implementation in a model deployment.

Near the end of the period of performance of Phase 1, the USDOT intends to issue a second RFP to launch Phase 2 of the demonstration program to select two or more local communities to proceed with Phase 2—Model Deployment and Evaluation. Only those applicants awarded to participate in Phase I will be eligible to apply for Phase 2 of this demonstration.

III. Eligibility Information

1. Eligible Applicants

This solicitation is targeted for communities of any size, and the application can be submitted by a lead agency designated by the local community chief executive, such as Mayor or City/County Manager. If there are multiple jurisdictions working together to submit an application, there should be ONE lead agency identified, with letters of commitment submitted from each local community chief executive from all participating jurisdictions. Eligible lead agencies may include public entities currently establishing, operating, coordinating, or brokering general public and human service transportation, including, but not limited to, public transit agencies, state/local governments DOTs, health and human service agencies, federally recognized Indian tribes, and metropolitan planning organizations (MPOs) in the U.S. All agencies submitting proposals in response to this RFP consent to be publicly identified as respondents.

2. Cost Sharing or Matching

For each recipient, Federal ITS funds should not exceed 80% of total project costs. Each applicant is responsible for identifying the twenty (20) percent matching share from other non-USDOT public or private sector sources. The matching funds may consist of cash, equipment contributions, or personnel services (e.g., in-kind match). Applicants are encouraged to solicit matching funds from multiple sources, including Federal (non-USDOT), state and local governments and private sector partners, as they will be considered by proposal reviewers as evidence of local partnership.

3. Other

All public transit operators serving the local community, including those funded under either the FTA urbanized or non-urbanized formula programs (Sections 5307 and 5311) are expected to participate in the project. In cases where any public transit operator is unable to participate, a statement of explanation must be included in the proposal.

IV. Application and Submission Information

1. Address To Request Application Package

This announcement is intended to provide all information that applicants need in order to prepare and submit proposals. Applicants may contact FTA representatives as listed in Section VII should further clarifications be needed.

2. Content and Form of Application Submission

Each proposal should include a Project Overview, a Technical Plan, a Financial Plan, and a Management and Staffing Plan that describes how the proposed objectives will be met within the specified time frame and budget. These plans should contain the following information:

A. Project Overview

1. Describe local area/jurisdiction where the project will take place. This description should include size, population, general socio-economic characteristics, and characteristics of area (e.g., urban, suburban, rural, remote). The description should also include current public and community transportation systems, existing administration and coordination of human service transportation, and any other local conditions relevant to this RFP.

2. Describe the proposed system, including which organizations will participate and which transportation modes and human service programs (both federally and non-federally funded) will be represented by those participants. Also describe how the proposed project will be integrated with the existing transportation delivery systems and supported by leaders from the local transportation and human service communities.

3. Describe how consumers, which include people with disabilities, older adults, and individuals with lower incomes will be involved in the system development and design process. If a particular user community will be represented by a public or private organization, describe how this particular organization is qualified to represent local user needs and interests.

4. Describe which organizations will lead the project, and how responsibilities for task completion will be shared among proposed project partners. Identify existing operational and institutional integration within and across organizations, including joint operations, shared resources, etc.

5. Include documentation of any existing or planned interagency agreements or public/private cooperative arrangements necessary for conducting the project. If signed agreements cannot be included, a statement that an agreement is being developed, such as letter of commitment, will suffice.

6. Discuss how and the extent to which local stakeholders, including consumers, service providers and human service agencies, will benefit from the proposed TMCC system. For example, explain how the proposed TMCC system makes it easier for consumers to access transportation resources.

7. Include a “Statement of Intent” to develop a TMCC system that is consistent with all applicable laws and regulations, including the Health Insurance Portability and Accountability Act (HIPAA) of 1996 and Section 508 requirements.

8. Include a “Statement of Intent” to develop a TMCC system that is consistent with the regional ITS architecture. There should be a “Statement of Intent” to adhere to Section 508 requirements for deliverables accessibility.

B. Technical Plan

The proposal must provide a comprehensive and concise technical plan that describes how the applicant will develop and design a model TMCC system, including the respective roles of all involved parties, and the extent of agency coordination. The technical plan must include the following components:

Current State of ITS Applications for Human Service Transportation Delivery.

1. Provide a description of the current ITS system and its components in the targeted community/geographic areas and a detailed overview of the status and utilization of these components related to human service transportation coordination and accessibility enhancement.

2. Discuss the relationship of the current ITS system with current policies and practices in human service transportation systems. Include a description of how ITS is used with varying human service program operations and funding streams.

3. Describe the relationship of the current ITS system with other Federal systems change initiatives related to human service (e.g., 211/511 systems, Aging Disability Resource centers, Real Choice System Change Projects, etc.).

Technical Approach.

1. Describe, in detail, how the applicant will produce the deliverables specified in Section VI.4 (Deliverables), including all associated tasks, the respective roles of all involved parties, and the extent of agency coordination.

2. Describe the technical and logistical details by which each proposed task will be carried out, including stakeholder participation, processes involved, and technologies and resources to be used.

3. Describe how the applicant will address institutional and regulatory issues, and in particular how it will handle the regulatory requirements and waivers and cost sharing, if applicable. Describe any plans and approaches for building interagency consensus across participating human service funding programs and service providers.

4. Describe approaches and processes by which the applicant will monitor and measure project performance and progress toward a coordinated human service transportation system.

5. Identify the project schedule (timeframe). The schedule should reflect the sequencing of/relationship among the tasks and the duration of each task. The schedule should also specify the milestone and deliverable dates (timeframes).

a. Identify and discuss the major tasks to be performed. In addition, identify the estimated number of hours and cost for performing each task.

b. Identify the project schedule (timeframe). The schedule should identify the sequencing of/relationship among the tasks and the duration of each task. The schedule should also specify the milestone and deliverable dates (timeframes).

C. Management and Staffing Plan

1. Identify management and key professional/technical responsibilities for the overall program. Include an organizational chart providing the names, affiliated organizations, and positions of all project management and key professional/technical staff.

2. Identify one point of contact representing each project partners, including human service transportation program and organization, consumer groups, and private sector participants or sponsors.

3. Demonstrate that all key personnel, including project manager(s), are capable, available, and able to commit to a level of involvement that ensures project success.

4. Include biographical data on project management and key professional and technical personnel.

5. Provide the estimated number of hours by task for each job classification.

6. Discuss project management and oversight mechanisms and approaches to be used to monitor progress and gauge project performance.

D. Financial Plan

The proposal should provide an in-depth description and assessment of the total cost of achieving the objectives of the project. Specifically, the financial plan should:

1. provide a description of total project costs,

2. provide a budget and cost estimates by task and phase as defined in the technical plan,

3. identify staff members, labor categories, labor hours and burden rates (base rate and overhead), travel and other direct costs, and other standard budget items such as fees for each major task, and

4. include all evidence of financial commitments to the project from both public and private sectors, such as in signed Memoranda of Understanding (MOU).

3. Submission Dates and Times

All proposals should be submitted electronically to http://www.Grants.Gov by June 13, 2006 for consideration. Grants.Gov allows organizations to electronically find and apply for competitive opportunities from all Federal grant-making agencies. Grants.Gov is the single access point for over 1,000 programs offered by the 26 Federal grant-making agencies.

Proposals can also be submitted in hard copy and postmarked by June 13, 2006. Should the applicant elect this option, five hard copies and one unbound reproducible hard copy of the proposal, along with an electronic copy of the proposal contained on a CD-ROM should be submitted to Ms. Aletha Goodine, Office of Mobility Innovation, Room 9402, TRI-10, Federal Transit Administration, USDOT, 400 Seventh Street, SW., Washington, DC 20590. All proposals should reference “Demonstration of Enhanced Human Service Transportation Models: Phase 1—System Development and Design.”

4. Funding Restriction

Eligible expenses for this project are limited to activities related to the development and design of local coordinated human service transportation models, such as personnel, travel, and consulting services. This RFP is not to support operations of transportation services or capital equipment purchases, including the purchase of ITS hardware/software systems.

Successful applicants should plan to participate in a 1.5 day face-to-face project kickoff workshop with the Federal Government representatives, invited subject experts, and peer recipients at the USDOT headquarters in Washington, DC. The workshop agenda will focus on project goals, objectives, potential approaches, strategies, available resources and USDOT expectations. The USDOT may elect to hold a second face-to-face workshop during the project performance period where all recipients can network with their peers and exchange information and lessons learned with one another. The successful applicant's project manager plus one key member assigned to the project should plan to attend both workshops. Associated travel expenses should be budgeted and presented in the financial plan.

Successful applicants should also include a budget to develop and make presentations at up to two conferences to be specified by the FTA Project Manager.

5. Other Submission Requirements

A proposal should not exceed 50 pages in length, including title, index, tables, figures, appendices, abstracts, and other supporting materials except resumes (i.e., resumes may be in addition to the 50 pages). A page is defined as one (1) side of an 8.5 by 11-inch paper, line spacing no smaller than 1.5, with a type font no smaller than 12 point. The cover sheet or front page of the proposal should include the name, address, and phone number of an individual to whom correspondence and questions about the application may be directed. In addition, an SF-424, Application for Federal Assistance, form must be completed and submitted with the proposal. The form may be obtained at http://www.Grants.Gov.

V. Application Review Information

1. Criteria

The primary evaluation criterion for the proposal will be the applicant's demonstrated understanding and ability to accomplish the required project deliverables based on reasonable schedule and budget that are consistent with the vision of the project. Specific criteria and weights (in parentheses) against which each submitted proposal will be evaluated include the following:

• Operations environment (NA)—To promote model replicability, the grants will be awarded to a mix of urban, suburban, rural and remote areas where different operational characteristics and user needs may lead to variations in TMCC system development and design. Since this criterion is beyond the control of the applicants, no weight is assigned.

• Clarity and specificity of proposal (15%)—The reviewers will judge each proposal by the applicant's demonstrated ability to achieve the project goals and objectives. All proposals should follow proposal guidelines as laid out in Section IV.2 (Content and Form of Application Submission) and clearly provide information as requested, such as descriptions of how customers will be involved in the process and how is the proposed system supported by leaders from local transportation and human service communities.

• Current state of human service transportation delivery system (15%)—Preference will be given to those applicants with existing policies, ongoing transportation coordination in place to support human service transportation improvements. Six areas of focus under this evaluation criterion include: (1) Leadership and partnership; (2) planning; (3) operations; (4) technology; (5) customer service; and (6) policy, program and funding. In the proposal, applicants are strongly encouraged to demonstrate their commitment and ability to build upon their existing resources and activities to advance the quality of human service transportation. The Implementation Tool for Coordinated Community Transportation, published jointly by the United We Ride and Mobility Services for All Americans initiatives, will be referenced by the reviewers in scoring proposals with respect to this criterion.

• The current level of ITS Infrastructure in place (15%)—The USDOT will give preference to applicants with some levels of existing ITS infrastructure, such as wireless communications, in place to support human service transportation improvements.

• Scope of human service transportation programs participation (10%)—The USDOT encourages all applicants to involve at least two and as many human service transportation programs as practically possible in their respective projects. The USDOT will also recognize effort to engage non-federally funded human service transportation programs. The proposal will be evaluated on established interagency relationship for human service transportation delivery through written legal agreements, such as the establishment of a coordination council, various resource centers, memorandum of understanding, and/or general documentation of cooperative working relationships, such as documented meetings and events. The term “interagency” may involve multiple human service program managing/funding agencies, user groups, and a wide spectrum of service modes and providers.

• Strong public-private partnership and commitment (10%)—The USDOT strongly encourages the participation of private entities (e.g., private transportation operators, non-profit human service providers, advocacy groups and business community organizations) in this project. If a public-private partnership is included in the proposal, the business models and functional roles of the private partners should be described in detail. The proposal should also include evidence of commitment to the project from each of the participating organizations and assess the likelihood of continuing participation beyond the end of the project.

• Integration with other technology and/or systems change initiatives (10%)—The USDOT encourages and recognizes applicants to integrate (or coordinate) with and build upon efforts made by other initiatives related to human service transportation enhancement, such as state-level United We Ride activities, HIPAA, 211 (local community services information systems) and 511 (travel information systems), Aging Disability Resource centers, and Real Choice System Change projects.

• Cost (10%)—The cost of the project should reflect the scope of the project.

• Qualifications and experience (10%)—The proposal demonstrates adequate qualifications and experience of individuals and organizations with respect to project management and technical capabilities. The applicants' past performance, if available, may be considered in the evaluation.

• Timelines and Deliverables (5%)—The timeline incorporates sufficient time to develop and implement the institutional and technical aspects of the project.

2. Review and Selection Process

The Federal Transit Administration will establish a proposal review panel to evaluate all eligible applications based on the criteria and requirements defined in this Notice. The review panelists may represent Federal agencies outside of the USDOT to provide diversified perspectives and expertise related to human service transportation. The Federal Transit Administration will notify successful applicants.

VI. Award Administration Information

1. Award Notices

It is anticipated that successful applicants will be notified within 45 days from the closing date of this RFP. Federal Transit Administration's (FTA) Administrator will notify the successful applicants through postal mail.

2. Administrative and National Policy Requirements

Following receipt of the FTA Administrator's notification letter, the successful applicants will be required to submit their proposal through the FTA Transportation Electronic Award and Management (TEAM) system Web site. FTA will manage the cooperative agreement through the TEAM system Web site. Before FTA may award Federal financial assistance through a cooperative agreement, each applicant must submit all certifications and assurances pertaining to itself and its project as required by Federal laws and regulations. These certifications and assurances must be submitted to FTA irrespective of whether the project is financed under the authority of 49 U.S.C. Chapter 53, or Title 23, United States Code, or another Federal statute. Since Federal fiscal year 1995, FTA has been consolidating the various certifications and assurances that may be required of its awardees and the projects into a single document published in the Federal Register. Fiscal year 2006 Annual List of Certifications and Assurances for FTA Grants and Cooperative Agreements and guidelines will be published in the Federal Register and posted on the FTA Web site at http://www.fta.dot.gov.

3. Reporting

Recipients are required to submit quarterly reports to the FTA Project Manager through the FTA TEAM system Web site. The quarterly reports must discuss milestones related to the deliverables targeted for the end of the project period, and include the following elements:

• Significant accomplishments,

• Project issues/concerns and recommended solutions,

• Updated project schedule,

—List and status of current tasks

—List of completed tasks

—Percent complete by task

—If slips in the schedule occur, the recipient should propose how to mitigate the schedule deviation(s)

• total budget by task, and

—Amount spent to date by task

—Amount remaining by task

• Travel expense report (if applicable).

4. Deliverables

At a minimum, the lead agency should provide the following deliverables during and at the conclusion of the project:

• A detailed project plan

Based on the discussion at the project kickoff workshop, successful applicants should develop a detailed project plan. The project plan must include project background information, major tasks and approaches, implementation timelines, budgets, and deliverables.

• A TMCC concept of operations

The TMCC concept of operations provides a high-level definition of “what” the TMCC should or should not do. The concept of operations document should clearly and concisely describe user needs and operational policies and constraints corresponding to local characteristics. The identified user needs will serve as the foundation for system requirements and provide the justification for the functions desired. A comprehensive discussion of operational policies and constraints should establish expected policy environment for TMCC operation and set clear boundaries on the scope of the project. The Concept of Operations should explicitly document the specific shortcomings of the current human service transportation delivery in the local area that will be addressed by the proposed TMCC, from both an operator/program administration and a user point of view.

• A TMCC system requirements

A system requirement is the detailed “what.” The recipients should define both functional and performance requirements of the TMCC model. All system requirements must be unambiguous, concise, and achievable, and be consistent with and supportive of the concept of operations as laid out in the previous task. All requirements should map to an explicit user or operator need in the Concept of Operations, as described below. In developing the system requirements, it is anticipated that the recipients may find it necessary to clarify and update the needs described in the Concept of Operations.

• A TMCC system design

System design describes the “how” to implement the “what.” Recipients will explore different alternatives, including outlining strengths and weaknesses, examining technical and operational feasibility, institutional compatibility, and other constraints and costs. As part of this task, the recipients will produce a report documenting the approach, process, and outcome of the TMCC system designs. All TMCC system designs should take into account and be in compliance with all applicable laws, regulations and policies, including the Health Insurance Portability and Accountability Act (HIPAA) of 1996.

• A TMCC system phasing implementation plan

• An existing ITS architecture and standards gaps report

Upon completion and approval of the TMCC system design, recipients should analyze and identify any gaps in the existing regional ITS architecture and relevant available ITS-related standards with respect to implementation of the proposed TMCC. The USDOT anticipates that some gaps may exist given the specific operational characteristics and stakeholders involved in human service transportation. It should be noted that no recipients will be held responsible for updating the existing regional ITS architecture or for creating new standards within the scope of this project.

Other deliverables:

• Meetings and working sessions with the USDOT interdisciplinary technical assistance team as described in Section VIII.1—Technical Assistance Resources,

• A proposal at the conclusion of the project to the USDOT for funding to implement and evaluate the TMCC system as designed (i.e., Phase 2); the USDOT will define the proposal format and requirements and release a separate request for proposal near the end of this project, and

• Up to two face-to-face workshops at USDOT headquarters in Washington, DC or selected local communities to discuss progress, exchange information and network with peer groups.

Recipients are required to submit written deliverables to the FTA Project Manager for review and approval. All written deliverables must be provided in a Section 508 compliant format, unless otherwise directed by the FTA Project Manager. For all deliverables to be published on the websites, recipients should provide the final approved products as follows to the FTA Project Manager:

• The final products should be submitted in Adobe PDF, PowerPoint, MSWord, Excel, or other file format pre-approved by the FTA Project Manager that meets current FTA web posting standards.

• The preferred source code file that the recipients should provide to the FTA Project Manager is Microsoft Word with images, if any, embedded into the document in JPEG format.

• All documents, including final reports must be submitted in formats that meet 508 Requirements so that they can easily be posted on Federal websites. Where there are graphics (e.g., pictures, illustrations, logos, charts, tables as images, maps), Alt-tags text should thoroughly describe the image and be provided for every single image. Repeating a caption does not meet the intent of the law and is therefore on the lowest end of acceptability. The description in the Alt-tags text must fully describe the graphic (as if one were acting as a reader for a blind person). If the full description is contained in the text, the Alt-tags should reference the reader to where that description is (e.g.: graphic representation of noise waves as described in the previous paragraph). If the full description is not already in the text and is long a link should be created to a separate page that contains the description and the Alt-tags should direct the reader to this link. Graphics file size (e.g., pictures, illustrations, logos, charts, maps) must be submitted as individual files in addition to those that are embedded in the source file. The preferred format for images is JPEG. Graphics should (if at all possible) be kept to a width of 600 pixels or less—to prevent horizontal scrolling. Tables are never acceptable as graphics files. All tables should be laid out using the Word table feature. Do not use tabs.

VII. Agency Contacts

For program management and cooperative agreement administrative questions: Aletha Goodine at PH: 202-366-4148; FAX: 202-366-3765; Office of Mobility Innovation, Room 9402, TRI-10, Federal Transit Administration, USDOT, 400 Seventh Street, SW., Washington, DC 20590, or aletha.goodine@fta.dot.gov.

For technical questions: Yehuda Gross at PH: 202-366-1988; FAX: 202-493-2027; ITS Joint Program Office, Room 3416, HOIT-1, Federal Highway Administration, USDOT, 400 Seventh Street, SW., Washington, DC 20590, or Yehuda.gross@fhwa.dot.gov.

VIII. Other Information

1. Technical Assistance Resources

To assist recipients in completing the TMCC development and design tasks within the project performance period, the USDOT will establish an interdisciplinary technical assistance team as a resource. This technical assistance team will provide technical assistance to and exchange information across the recipients as needed. The technical assistance team will be funded separately by the USDOT and involve people with diversified areas of expertise related to human service transportation, including ITS technology, transportation disadvantaged population, transportation planning, transit operations, human service program policy and regulatory compliance, system engineering, communications technology, software design and related topics.

The technical assistance team may conduct on-site visits to address specific local community needs, including identifying technical and institutional hurdles and possible solutions, as well as other impacts that may affect the progression and quality of the project. In addition to site visits by the technical assistance task, recipients may contact the technical assistance team experts through emails, telephone calls or on-site visits for prompt technical consultation as needed.

Recipients are not financially responsible for the technical assistance team, which will be procured by the USDOT through a separate RFP. However, each applicant is required to demonstrate in the proposal its willingness to utilize such technical assistance and cooperate with the interdisciplinary technical assistance team as appropriate.

In addition, the Government Accountability Office (GAO) has published several reports in recent years on subjects related to human service transportation. These reports provide a comprehensive overhaul of issues and challenges facing cost-effective delivery and access of human service transportation. These reports can be viewed and downloaded from the GAO Web site at http://www.gao.gov.

Finally, three recently released publications may assist the applicants in preparing proposals and subsequently implementing the projects. The first publication, the Report to the President on Human Service Transportation Coordination (http://www.unitedweride.gov/1_866_ENG_HTML.htm), published in 2005, presented five broad recommendations that the CCAM believes will strengthen existing transportation services to be more cost-effective, and accountable and help providers become more responsive to consumers. These five recommendations include (1) coordinated transportation planning; (2) vehicle sharing; (3) cost sharing; (4) reporting and evaluations; and (5) consolidated access transportation demonstration program.

Second, as part of the joint effort of the United We Ride and Mobility Services for All Americans initiatives, the USDOT is in the process of developing additional tools to take the Framework for Action to the next level by providing communities and states with guidance to take concrete action and identify their progress along the way. These tools build on the same core elements as the Framework and assist in defining where a community or state is on the road to building a fully coordinated comprehensive transportation system that is inclusive of people with disabilities, older adults and individuals with lower incomes. The recipients may find these tools useful in designing their respective TMCC systems. Inquiries about the availability of these tools may be directed to the United We Ride program office at unitedweride@fta.dot.gov.

The third publication is a generic TMCC concept of operations that provides a high-level, representative description of an enhanced human service transportation delivery system in terms of operational characteristics, service scenarios and relationships between system components. This publication is designed to provide an example that can be used by agency and other stakeholders as the basis for developing their own specific TMCC system concept of operations. This publication can be obtained via website at http://www.its.dot.gov/msaa or by contacting the FTA Project Manager.

2. Additional Resources

• USDOT ITS Mobility Services for All Americans initiative http://www.its.dot.gov/msaa/index.htm

• Federal Interagency United We Ride initiative http://www.unitedweride.gov

• Information on Section 508 and web site accessibility: http://www.section508.gov

• National ITS Architecture http://www.its.dot.gov/arch/index.htm

• ITS Standards http://www.standards.its.dot.gov/standards.htm

3. List of Acronyms and Abbreviations

CCAM Coordinating Council on Access and Mobility

FHWA Federal Highway Administration

FTA Federal Transit Administration

GAO Government Accountability Office

GIS Geographic Information Systems

HIPAA Health Insurance Portability and Accountability Act

ITS Intelligent Transportation Systems

JPEG Joint Photographic Experts Group

MOU Memorandum of Understanding

MPO Metropolitan Planning Organization

MSAA Mobility Services for All Americans

PDF Portable Document Format

RFP Request for Proposals

TMCC Travel Management Coordination Center

USDOT United States Department of Transportation

UWR United We Ride

Issued on: April 7, 2006.
Sandra K. Bushue,
Deputy Administrator.

[FR Doc. E6-5588 Filed 4-13-06; 8:45 am]

BILLING CODE 4910-57-P